Title 3—

The President

Proclamation 8993 of June 7, 2013

Flag Day and National Flag Week, 2013

By the President of the United States of America

A Proclamation

Each June, our Nation lifts its sights to the flag that has watched over us since the days of our founding. In those broad stripes and bright stars, we see the arc of the American story—from a handful of colonies to 50 States, united and free.

When proud patriots took up the fight for independence, they came together under a standard that showed their common cause. When the wounds of civil war were still fresh and our country walked the long road to reconstruction, our people found hope in a banner that testified to the strength of our Union. Wherever our American journey has taken us, whether on that unending path to the mountaintop or high above into the reaches of space, Old Glory has followed, reminding us of the rights and responsibilities we share as citizens.

This week, we celebrate that legacy, and we honor the brave men and women who have secured it through centuries of service at home and abroad. Let us raise our flags high, from small-town storefronts to duty stations stretched around the globe, and let us look to them once more as we press on in the march toward a more perfect Union.

To commemorate the adoption of our flag, the Congress, by joint resolution approved August 3, 1949, as amended (63 Stat. 492), designated June 14 of each year as “Flag Day” and requested that the President issue an annual proclamation calling for its observance and for the display of the flag of the United States on all Federal Government buildings. The Congress also requested, by joint resolution approved June 9, 1966, as amended (80 Stat. 194), that the President annually issue a proclamation designating the week in which June 14 occurs as “National Flag Week” and call upon citizens of the United States to display the flag during that week.

NOW, THEREFORE, I, BARACK OBAMA, President of the United States of America, do hereby proclaim June 14, 2013, as Flag Day and the week beginning June 9, 2013, as National Flag Week. I direct the appropriate officials to display the flag on all Federal Government buildings during that week, and I urge all Americans to observe Flag Day and National Flag Week by displaying the flag. I also call upon the people of the United States to observe with pride and all due ceremony those days from Flag Day through Independence Day, also set aside by the Congress (89 Stat. 211), as a time to honor America, to celebrate our heritage in public gatherings and activities, and to publicly recite the Pledge of Allegiance to the Flag of the United States of America.

IN WITNESS WHEREOF, I have hereunto set my hand this seventh day of June, in the year of our Lord two thousand thirteen, and of the Independence of the United States of America the two hundred and thirty-seventh.

[FR Doc. 2013-14045

Filed 6-11-13; 8:45 am]

Billing code 3295-F3